DEPARTMENT OF STATE

22 CFR Part 121

[Public Notice 4581]

RIN 1400-ZA06

Amendment to the International Traffic in Arms Regulations: United States Munitions List

AGENCY: Department of State.

ACTION: Final rule.

SUMMARY: This rule amends the International Traffic in Arms Regulations (ITAR) to remove from U.S. Munitions List (USML) jurisdiction certain quartz rate sensors when the sensors are integrated into and included as an integral part of a commercial standby inertial navigation system for use on a civil aircraft or exported solely for integration into such systems. Based on a case-by-case review, the Department will review requests to determine if a sensor is eligible for removal from the USML under this regulatory change. In such cases, the Department will provide the exporter with written confirmation of this determination and the export of the sensors will be under the licensing jurisdiction of the Department of Commerce. In all other cases, these items will continue to be covered by the USML and subject to State Department licensing.

EFFECTIVE DATE: January 7, 2004.

ADDRESSES: Interested parties are invited to submit written comments to the Department of State, Directorate of Defense Trade Controls, Office of Defense Trade Controls Policy, ATTN: Regulatory Change, Category VIII, 12th Floor, SA-1, Washington, DC 20522-0112 (202-663-2700). Comments will be accepted at any time.

FOR FURTHER INFORMATION CONTACT: Ann Ganzer, Director, Office of Defense Trade Controls Policy, Bureau of Political-Military Affairs, Department of State (202) 663-2700.

SUPPLEMENTARY INFORMATION: In conjunction with a request for Commodity Jurisdiction, the Department of State has determined that certain quartz rate sensors otherwise controlled under the ITAR are not subject to the licensing jurisdiction of the Department of State when integrated into backup inertial navigations systems for civil aircraft or exported solely for integration into such systems. This determination will be made on a case-by-case basis in response to requests for consideration under this regulatory change. U.S. exporters are requested to submit a General Correspondence to make a formal request for consideration by the Directorate of Defense Trade Controls. These requests will be favorably considered only where the sensor is an integral part of the commercial system or is exported solely for integration into such a system and is important for the safe operation of the civil aircraft. In making this determination, other factors will also be considered. Among them is the extent to which the sensors can be extracted without damage and used for a significant military application, the extent to which diversion of the sensors alone or in small quantities poses a threat to the national security or foreign policy interests of the United States, and the scope of controls that would be applicable to the commercial system if licensing jurisdiction were transferred to the Department of Commerce. Exports of quartz rate sensors determined by the State Department to not be subject to USML controls will be subject to the licensing jurisdiction of the Department of Commerce whether the sensors are being exported for integration abroad or being exported as an integral part of a commercial standby inertial navigation system.

This amendment involves a foreign affairs function of the United States and therefore, is not subject to the procedures required by 5 U.S.C. 553 and 554. It is exempt from review under Executive Order 12866 but has been reviewed internally by the Department to ensure consistency with the purposes thereof. This rule does not require analysis under the Regulatory Flexibility Act or the Unfunded Mandates Reform Act.

It has been found not to be a major rule within the meaning of the Small Business Regulatory Enforcement Fairness Act of 1996. It will not have substantial direct effects on the States, the relationship between the National Government and the States, or on the distribution of power and responsibilities among the various levels of government. Therefore, it is determined that this rule does not have sufficient federalism implications to warrant application of the consultation provisions of Executive Orders 12372 and 13132.

List of Subjects in 22 CFR Part 121

Arms and munitions, Exports.

Accordingly, for the reasons set forth above, Title 22, Chapter I, Subchapter M, Part 121 is amended as follows:

PART 121—THE UNITED STATES MUNITIONS LIST

1. The authority citation for part 121 continues to read as follows:

Authority: Secs. 2, 38, and 71, Pub. L. 90-629, 90 Stat. 744 (22 U.S.C. 2752, 2778, 2797); E.O. 11958, 42 FR 4311; 3 CFR 1977 Comp. p. 79; 22 U.S.C. 2658; Pub. L. 105-261, 112 Stat. 1920.

2. In § 121.1 Category VIII at the end of paragraph (e) add the following note:

§ 121.1 General. The United States Munitions List.

* * * * *

Category VIII—Aircraft and Associated Equipment

* * * * *

(e) * * *

Note: (1) Category XII(d) or Category VIII(e) does not include quartz rate sensors if such items:

(i) Are integrated into and included as an integral part of a commercial standby instrument system for use on civil aircraft prior to export or exported solely for integration into such a commercial standby instrument system, and

(ii) When the exporter has been informed in writing by the Department of State that a specific quartz rate sensor or a quartz rate sensor integrated into a commercial standby instrument system has been determined to be subject to the licensing jurisdiction of the Department of Commerce in accordance with this section.

(2) For controls in these circumstances, see the Commerce Control List. In all other circumstances, quartz rate sensors remain under the licensing jurisdiction of the Department of State under Category XII(d) or Category VIII(e) of the U.S. Munitions List and subject to the controls of the ITAR.

* * * * *

Dated: January 7, 2004.
John R. Bolton,
Under Secretary, Arms Control and International Security, Department of State.

[FR Doc. 04-329 Filed 1-6-04; 8:45 am]

BILLING CODE 4710-25-P